ENVIRONMENTAL PROTECTION AGENCY

[EPA-HQ-OAR-2005-0161; FRL-9263-3]

Agency Information Collection Activities; Submission to OMB for Review and Approval; Comment Request; Production Outlook Reports for Un-Registered Renewable Fuel Producers (New Collection)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for approval for a new information collection. The ICR, which is abstracted below, describes the nature of the information collection and its estimated burden and cost.

DATES: Additional comments may be submitted on or before March 10, 2011.

ADDRESSES: Submit your comments, referencing Docket ID No. EPA-HQ-OAR-2005-0161, to (1) EPA online using http://www.regulations.gov (our preferred method), by e-mail to a-and-r-Docket@epa.gov, or by mail to: EPA Docket Center, Environmental Protection Agency, Air Docket, Mail Code 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Geanetta Heard, Office of Transportation and Air Quality (6406J), Environmental Protection Agency, 1200 Pennsylvania Ave., NW., Washington, DC 20460; telephone number: 202-343-9017; fax number: 202-343-2801; e-mail address: heard.geanetta@epa.gov.

SUPPLEMENTARY INFORMATION: EPA has submitted the following ICR to OMB for review and approval according to the procedures prescribed in 5 CFR 1320.12. On October 14, 2010 (75 FR 63173), EPA sought comments on this ICR pursuant to 5 CFR 1320.8(d). EPA received no comments. Any additional comments on this ICR should be submitted to EPA and OMB within 30 days of this notice.

EPA has established a public docket for this ICR under Docket ID No. EPA-HQ-OAR-2005-0161, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information for which public disclosure is restricted by statute. For further information about the electronic docket, go to http://www.regulations.gov.

Title: Production Outlook Reports for Un-Registered Renewable Fuels Producers (New Collection).

ICR numbers: EPA ICR No. 2409.01, OMB Control No. 2060-NEW.

ICR Status: This is a request for OMB approval of a new information collection. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: With this information collection request (ICR), we are seeking permission to accept production outlook reports from domestic and foreign renewable fuel producers who are not currently regulated parties under the RFS2 program. The respondents for this ICR are not required to register or report under the RFS2 regulations. Submission of production outlook information to EPA under this ICR will be voluntary.

We believe that many parties would wish to submit this information in order to receive better assistance in understanding and preparing to comply with the RFS2 regulations. A typical respondent would be a renewable fuel producer who is in the process of developing plans for, or constructing, a renewable fuel production facility or that is currently opting out of the RFS2 program under 40 CFR 80.1426(c)(3). Such a respondent would not be required to register or report under RFS2 because it is not yet producing renewable fuel subject to the regulation. However, the respondent would likely wish to provide the information in order to receive feedback from EPA and to aid its planning for future compliance with the RFS2 regulations and annual compliance standards.

Respondents that voluntarily provide the information requested through this ICR will benefit from doing so. The information that respondents provide will allow EPA to more accurately project cellulosic biofuel volumes for the following calendar year, and these volume projections will form the basis of the percentage standards EPA sets under the RFS2 program. Without information from these respondents, EPA's volume projections are more likely to fall below actual projection volumes. Under such circumstances, supply for cellulosic biofuel will exceed demand, and the value of cellulosic biofuel Renewable Identification Numbers (RINs) will fall. RINs are marketable credits that correspond to a given volume of renewable fuel. Since RIN market price directly affects the economic viability of cellulosic biofuel production, low RIN prices could present economic difficulties to producers. Thus, it is in the interests of these respondents to provide this information to EPA, as doing so could ensure that the market price of RINs appropriately reflects the value of their cellulosic biofuel. This information also serves a more general program purpose, because it will assist EPA in setting the annual RFS2 standard more accurately.

Burden Statement: The annual public reporting and recordkeeping burden for this collection of information is estimated to average 4 hours per response. Burden means the total time, effort, or financial resources expended by a person to generate, maintain, retain, or disclose or provide information to a Federal agency. This includes the time needed to review instructions; to develop, acquire, install, and utilize technology and systems for the purposes of collecting, validating, and verifying information; to process and maintain information; to disclose and provide information; to adjust the existing ways to comply with any previously applicable instructions and requirements which have subsequently changed; to train personnel to be able to respond to a collection of information; to search data sources; to complete and review the collection of information; and to transmit or otherwise disclose the information.

Respondents/Affected Entities: Renewable fuel producers who are expected to fall under the general category of petroleum refineries (324110/2911), ethyl alcohol manufacturers (325193/2869), and/or other basic organic chemical manufacturing (325199/2869).

Estimated Number of Respondents: 35.

Frequency of Response: Once.

Estimated Total Annual Hour Burden: 140.

Estimated Total Annual Cost: $9,940, which includes no capital or O&M costs.

Changes in the Estimates: This is a new information collection.

Dated: February 1, 2011.
John Moses,
Director, Collection Strategies Division.

[FR Doc. 2011-2778 Filed 2-7-11; 8:45 am]

BILLING CODE 6560-50-P